DEPARTMENT OF LABOR

Office of the Secretary

Submission for OMB Review; Comment Request

April 26, 2002.

The Department of Labor (DOL) has submitted the following public information collection requests (ICRs) to the Office of Management and Budget (OMB) for review and approval in accordance with the Paperwork Reduction Act of 995 (Pub. L. 104-13, 44 U.S.C. Chapter 35). A copy of each individual ICR, with applicable supporting documentation, may be obtained by calling the Department of Labor. To obtain documentation contact Marlene Howze at (202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used:

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: OFCCP Recordkeeping and Reporting Requirements: Supply and Service.

OMB Number: 1215-0072.

Affected Public: Business or other for-profit; not-for-profit institutions; State, Local or Tribal Government.

Frequency: On occasion.

Number of Respondents: 95,311.

Number of Annual Responses: 95,311.

Estimated Time Per Response
Requirements | Average hours per response | Frequency
Recordkeeping:
Initial Development of AAP | 112.65 | Once.
Update of AAP | 51.14 | Annually.
Maintenance of AAP | 51.14 | Annually.
Uniform Guidelines on Employee Selection Procedures | 2.18 | Annually.
Reporting:
Standard Form 100 | 3.8 | Annually.
Scheduling Letter | 4.5 | On occasion.
Compliance Check Letter | .4 | On occasion.

Total Burden Hours: 9,967.675.

Total Annualized Capital/Startup Costs: $0.

Total Annual Costs (operating/maintaining systems or purchasing services): $23,096.

Description: The Office of Federal Contract Compliance Programs (OFCCP) is responsible for the administration of equal opportunity (EO) programs prohibiting employment discrimination against employees of Federal Contractors. OFCCP administers three programs: Executive Order 11246, as amended; Section 503 of the Rehabilitation Act of 1973, as amended; and the affirmative action provisions of the Vietnam Era Veterans' Readjustment Assistance Act of 1974, as amended (VEVRAA), 38 USC 4212. This information collection covers the supply and service aspects of these EO programs to substantiate compliance with nondiscrimination and affirmative action requirements enforced by OFCCP.

Ira L. Mills,
Departmental Clearance Officer.

[FR Doc. 02-11152 Filed 5-3-02; 8:45 am]

BILLING CODE 4510-CM-M